DEPARTMENT OF COMMERCE

Patent and Trademark Office

Agency Information Collection Activities; Submission to the Office of Management and Budget (OMB) for Review and Approval; Comment Request; Patent Petitions Related to Application and Reexamination Processing Fees

The United States Patent and Trademark Office (USPTO) will submit the following information collection request to the Office of Management and Budget (OMB) for review and clearance in accordance with the Paperwork Reduction Act of 1995, on or after the date of publication of this notice. The USPTO invites comment on this information collection renewal, which helps the USPTO assess the impact of its information collection requirements and minimize the public's reporting burden. Public comments were previously requested via the Federal Register on October 1, 2020 during a 60-day comment period. This notice allows for an additional 30 days for public comments.

Agency: United States Patent and Trademark Office, Department of Commerce.

Title: Patent Petitions Related to Application and Reexamination Processing Fees.

OMB Control Number: 0651-0059.

Form Number(s): (AIA = American Invents; SB = Specimen Book).

• PTO/AIA/17P (Petition Fee Under 37 CFR 1.17(f), (g), and (h) Transmittal).

• PTO/AIA/24A (Petition for Express Abandonment to Avoid Publication Under 37 CFR 1.138(c)).

• PTO/SB/17P (Petition Fee Under 37 CFR 1.17(f), (g), and (h) Transmittal).

• PTO/SB/23 (Petition for Extension of Time Under 37 CFR 1.136(b)).

• PTO/SB24A, (Petition for Express Abandonment to Avoid Publication Under 37 CFR 1.138(c)).

• PTO/SB/28 (Petition to Make Special Under Accelerated Examination Program).

• PTO/SB/140 (Petition to Withdraw an Application from Issue 1.313).

Type of Request: Extension and revision of a currently approved information collection.

Number of Respondents: 40,922 respondents per year.

Average Hour per Response: The USPTO estimates that it will take the public between 5 minutes (0.08 hours) to 12 hours to complete a response, depending on the complexity of the particular item. This includes the time to gather the necessary information, prepare the appropriate documents, and submit the completed response to the USPTO.

Estimated Total Annual Respondent Burden Hours: 72,958 hours.

Estimated Total Annual Non-Hour Cost Burden: $3,195,134.

Needs and Uses: The United States Patent and Trademark Office (USPTO) is required by 35 U.S.C. 131 et seq. to examine an application for patent and, when appropriate, issue a patent. The USPTO also is required to publish patent applications, with certain exceptions, promptly after the expiration of a period of 18 months from the earliest filing date for which a benefit is sought under Title 35, U.S.C.

Many actions taken by the USPTO during its examination of an application for patent or for reissue of a patent, or during its reexamination of a patent, are subject to review by an appeal to the Patent Trial and Appeal Board. For other USPTO actions, review is in the form of administrative review obtained via submission of a petition to the USPTO. USPTO petitions practice also provides an opportunity for a patent applicant or owner to supply additional information that may be required in order for the USPTO to further process an application or patent.

This information collection covers petitions filed in patent applications and reexamination proceedings that, when submitted to the USPTO, must be accompanied by the fee set forth in 37 CFR 1.17(f), (g), or (h). This information collection also covers the transmittals for the petition fees.

Affected Public: Private sector; individuals or households.

Frequency: On occasion.

Respondent's Obligation: Required to obtain or retain benefits.

This information collection request may be viewed at www.reginfo.gov. Follow the instructions to view Department of Commerce, USPTO information collections currently under review by OMB.

Written comments and recommendations for this information collection should be submitted within 30 days of the publication of this notice on the following website www.reginfo.gov/public/do/PRAMain. Find this particular information collection by selecting “Currently under 30-day Review—Open for Public Comments” or by using the search function and entering either the title of the information collection or the OMB Control Number 0651-0059.

Further information can be obtained by:

• Email: InformationCollection@uspto.gov. Include “0651-0059 information request” in the subject line of the message.

• Mail: Kimberly Hardy, Office of the Chief Administrative Officer, United States Patent and Trademark Office, P.O. Box 1450, Alexandria, VA 22313-1450.

Kimberly Hardy,
Information Collections Officer, Office of the Chief Administrative Officer, United States Patent and Trademark Office.

[FR Doc. 2021-00943 Filed 1-15-21; 8:45 am]

BILLING CODE 3510-16-P